DEPARTMENT OF JUSTICE

Notice of Lodging of Consent Decree Pursuant to the Comprehensive Environmental Response, Compensation, and Liability Act

In accordance with Departmental policy, 28 CFR 50.7, notice is hereby given that a proposed consent decree in United States v. Seattle Disposal Co., et al., Civil Action No. CV-02-1126-R was lodged on May 23, 2002, with the United States District Court for the Western District of Washington. The consent decree requires defendants Seattle Disposal Company, John Banchero, Joan Razore and the Estate of Josie Razore to pay $583,000 in natural resource damages into an account managed by natural resource damages trustees the State of Washington Department of Ecology, the Tulalip Tribes of Washington, the National Oceanic and Atmospheric Administration of the United States Department of Commerce, and the United States Department of Interior.

The Department of Justice will receive, for a period of thirty (30) days from the date of this publication, comments relating to the proposed consent decree. Comments should be addressed to the Assistant Attorney General for the Environment and Natural Resources Division, Department of Justice, Washington, DC 20530, and should refer to United States v. Seattle Disposal Co., et al., DOJ Ref. # 90-11-3-1412/10.

The proposed consent decrees may be examined at the office of the United States Attorney, 601 Union Street, Seattle, WA 98101, and at the Consent Decree Library, P.O. Box 7611, U.S. Department of Justice, Washington, DC 20044-7611 or by faxing a request to Tonia Fleetwood, fax no. (202) 514-0097, phone confirmation number (202) 514-1547. In requesting a copy please refer to the referenced case and enclose a check in the amount of $8.00 (25 cents per page reproduction costs), payable to the U.S. Treasury.

Bruce S. Gelber,
Chief, Environmental Enforcement Section, Environment and Natural Resources Division.

[FR Doc. 02-14847 Filed 6-12-02; 8:45 am]

BILLING CODE 4410-15-M